DEPARTMENT OF TRANSPORTATION

Federal Highway Administration

Surface Transportation Environment and Planning Cooperative Research Program (STEP)

AGENCY: Federal Highway Administration (FHWA), DOT.

ACTION: Notice.

SUMMARY: Section 5207 of the Safe, Accountable, Flexible, Efficient Transportation Equity Act: A Legacy for Users (SAFETEA-LU) established the Surface Transportation Environment and Planning Cooperative Research Program (STEP). The general objective of the STEP is to improve understanding of the complex relationship between surface transportation, planning, and the environment. SAFETEA-LU provides $16.875 million per year for fiscal years (FY) 2006-2009 to implement this new cooperative research program. The STEP is the primary source of funds to conduct all Federal Highway Administration research on planning and environmental issues. In addition, Congress mandated several special studies and STEP will be the funding source for those projects.

The purpose of this notice is to announce revisions to the STEP implementation strategy for FY 2009 and to request suggested lines of research for the FY 2009 STEP via the STEP Web site at http://www.fhwa.dot.gov/hep/step/index.htm.

DATES: Suggestions for lines of research should be submitted to the STEP Web site on or before September 22, 2008.

FOR FURTHER INFORMATION CONTACT: Felicia Young, Office of Interstate and Border Planning, (202) 366-1263, Felicia.young@fhwa.dot.gov; or Wil Baccus, Office of the Chief Counsel, (202) 366-1396; Federal Highway Administration, 1200 New Jersey Avenue, SE., Washington, DC 20590. Office hours are from 7:45 a.m. to 4:15 p.m., e.t., Monday through Friday, except Federal holidays.

SUPPLEMENTARY INFORMATION:

Electronic Access

An electronic copy of this notice may be downloaded from the Office of the Federal Register's home page at http://www.archives.gov and the Government Printing Office's Web site at http://www.access.gpo.gov.

Background

Section 5207 of the Safe, Accountable, Flexible, Efficient Transportation Equity Act: A Legacy for Users (Pub. L. 109-59, Aug. 10. 2005), established the Surface Transportation Environment and Planning Cooperative Research Program. The STEP is a new cooperative research program for environment and planning research created in section 507 of Title 23, United States Code, Highways (23 U.S.C. 507). The general objective of the STEP is to improve understanding of the complex relationship between surface transportation, planning, and the environment.

SAFETEA-LU established five priority areas for STEP research. These priority funding areas include: (1) Develop more accurate models for evaluating transportation control measures and system designs for use by State and local governments to meet environmental requirements; (2) improve understanding of transportation demand factors; (3) develop indicators of economic, social, and environmental performance of transportation systems to facilitate alternatives analysis; (4) meet additional priorities as determined by the Secretary in the strategic planning process identified in section 5208 of SAFETEA-LU; and (5) refine the scope and research emphases through outreach and in consultation with stakeholders.

Congestion reduction also has been identified as a priority research area for the strategic planning process identified in section 5208 of SAFETEA-LU and is a key element of other STEP priority research areas. Therefore, in addition to the aforementioned research priorities, the STEP will also address research priorities related to congestion reduction.

Transportation system congestion is one of the single largest threats to U.S. economic prosperity and the American way of life. In response to the challenges of congestion, in May 2006, the DOT established the National Strategy to Reduce Congestion on America's Transportation Network (the “Congestion Initiative”).¹ The Congestion Initiative is a bold and comprehensive national program to reduce congestion on the Nation's roads, rails, runways and waterways.

¹ Speaking before the National Retail Federation's annual conference on May 16, 2006, in Washington, DC, former U.S. Transportation Secretary Norman Mineta unveiled a new plan to reduce congestion plaguing America's roads, rails, and airports. The National Strategy to Reduce Congestion on America's Transportation Network includes a number of initiatives designed to reduce transportation congestion. The transcript of these remarks is available at: http://www.dot.gov/affairs/minetasp051606.htm. Additional information may be located at: http://www.fightgridlocknow.gov.

Traffic congestion affects virtually every aspect of peoples' lives—where people live, where they work, where they shop, and how much they pay for goods and services. According to 2005 figures, in certain metropolitan areas the average rush hour driver loses as many as 72 hours per year to travel delay—equivalent to almost 2 weeks of work, amounting annually to a virtual “congestion tax” as high as $1,374 per traveler in wasted time and fuel.² Nationwide, congestion imposes costs on the economy of over $78 billion per year,³ more than a five-fold increase since 1982, and that would be even higher if it accounted for the significant cost of unreliability to drivers and businesses, the environmental impacts of idle related auto emissions, or increased gasoline prices.

² Texas Transportation Institute (TTI, 2007 Urban Mobility Report, September 2007 (http://tti.tamu.edu/documents/mobility_report_2007_wappx.pdf, Table 1; and http://mobility.tamu.edu/ums/congestion_data/tables/los_angeles.pdf), Tables 1 and 2.

³ TTI, 2007 Urban Mobility Report, p. 1.

The STEP directly addresses congestion reduction efforts as part of the Planning Focus Area. Other STEP emphasis areas include goals and objectives that relate to congestion reduction. These include: Congestion; Air Quality and Global Climate Change, Bicycle/Pedestrian and Health, Environmental Streamlining/Stewardship; United States/Canada and United States/Mexico Border Planning; Safety Planning; Freight Planning; Travel Modeling, etc. In addition, the STEP outreach efforts continue to seek partnerships that can leverage limited research funding with other stakeholders and partners in order to increase the total amount of funding available to meet the Nation's surface transportation research needs including congestion reduction.

SAFETEA-LU provides $16.875 million per year for FY 2006-2009 to implement this new cooperative research program. Due to obligation limitations, rescissions, and congressional designation of Title V Research in SAFETEA-LU, it is anticipated that approximately $12 million of the $16.875 million authorized will be available each fiscal year.

The FHWA is issuing this notice to: (1) to announce revisions to the STEP Implementation Strategy for the FY 2009 STEP, and (2) to solicit comments via the STEP Web site on proposed research activities to be undertaken in the FY 2009 STEP. The STEP Implementation Strategy was revised to: Update information on the graph and chart regarding historical planning and environment research funding, and to add information about the proposed FY 2009 STEP including proposed funding levels, goals and potential research activities.

Suggested lines of research activities for the FY 2009 STEP may include potential research ideas related to highway safety and the Congestion Initiative. Research activities related to the Congestion Initiative could specifically include ideas to relieve urban congestion; improve analysis tools for measuring and analyzing environmental impacts of congestion management projects; enhance national data resources on operational and environmental effects of congestion management projects; unleash private sector investment resources; promote operational and technological improvements; and target major freight bottlenecks and expand freight policy outreach.

We invite the public to visit this Web site to obtain additional information on the STEP, as well as information on the process for forwarding comments to the FHWA regarding the STEP implementation plan. The URL for the STEP Web site is http://www.fhwa.dot.gov/hep/step/index.htm. The FHWA will use this Web site as a major mechanism for informing the public regarding the status of the STEP.

Authority: Section 5207 of Pub. L. 109-59.

Issued on: June 11, 2008.
James D. Ray,
Acting Federal Highway Administrator.

[FR Doc. E8-14135 Filed 6-20-08; 8:45 am]

BILLING CODE 4910-22-P